DEPARTMENT OF TRANSPORTATION

Federal Aviation Administration

14 CFR Part 39

[Docket No. 2002-CE-01-AD; Amendment 39-12744; AD 2002-09-11]

RIN 2120-AA64

Airworthiness Directives; SOCATA—Groupe AEROSPATIALE Model TBM 700 Airplanes

AGENCY: Federal Aviation Administration, DOT.

ACTION: Final rule.

SUMMARY: This amendment supersedes Airworthiness Directive (AD) 2001-05-03, which applies to certain SOCATA—Groupe AEROSPATIALE (Socata) Model TBM 700 airplanes. AD 2001-05-03 currently requires you to apply Loctite on attaching bolt/screw threads of inboard, central, and outboard carriages; increase tightening torques of associated hardware; and replace central carriage attaching bolts. The French airworthiness authority has determined that certain service information referenced in AD 2001-05-03 be removed and additional inspection of the flap carriage attaching bolts, screws, and barrel nut be included. Therefore, this AD will retain the requirements of the current AD and will add the information communicated by the French airworthiness authority. The actions specified by this AD are intended to prevent the flap attaching bolts/screws from becoming loose and separating from the airplane, which could cause rough or irregular control. Such rough or irregular control could lead to the loss of control of the airplane.

DATES: This AD becomes effective on June 20, 2002.

The Director of the Federal Register approved the incorporation by reference of certain publications listed in the regulations as of June 20, 2002.

ADDRESSES: You may get the service information referenced in this AD from SOCATA Groupe AEROSPATIALE, Customer Support, Aerodrome Tarbes-Ossun-Lourdes, BP 930-F65009 Tarbes Cedex, France; telephone: (33) (0)5.62.41.73.00; facsimile: (33) (0)5.62.41.76.54; or the Product Support Manager, SOCATA—Groupe AEROSPATIALE, North Perry Airport, 7501 Pembroke Road, Pembroke Pines, Florida 33023; telephone: (954) 893-1400; facsimile: (954) 964-4191. You may view this information at the Federal Aviation Administration (FAA), Central Region, Office of the Regional Counsel, Attention: Rules Docket No. 2002-CE-01-AD, 901 Locust, Room 506, Kansas City, Missouri 64106; or at the Office of the Federal Register, 800 North Capitol Street, NW, suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? Reports of occurrences on Socata Model TBM 700 airplanes where a screw of a flap attachment fitting was found partly unscrewed and another was missing caused us to issue AD 2001-05-03, Amendment 39-12139 (66 FR 14308, March 12, 2001). The occurrences were the result of flap vibration. AD 2001-05-03 requires the following on Socata Model TBM 700 airplanes:

—Apply Loctite on attaching bolt/screw threads of inboard, central, and outboard carriages;

—Increase tightening torques of associated hardware; and

—Replace central carriage attaching bolts.

Accomplishment of these actions is required in accordance with Socata Mandatory Service Bulletin SB 70-087 57, Amendment 1, dated November 2000, or Socata Mandatory Service Bulletin SB 70-087, dated September 2000.

What has happened since AD 2001-05-03 to initiate this action? The Direction Générale de l'Aviation Civile (DGAC), which is the airworthiness authority for France, recently notified FAA of the need to change AD 2001-05-03. The DGAC reports the procedures in the original issue of Socata Mandatory Service Bulletin SB 70-087, dated September, 2000, do not correct the unsafe condition. The DGAC indicates that reference to this service information should be removed from the AD. In addition, the DGAC is requiring the barrel nut be inspected for correct installation, with corrective action as necessary, on certain Socata Model TBM 700 airplanes registered in France.

What is the potential impact if FAA took no action? This condition, if not corrected, could result in the flap attaching bolts/screws becoming loose and separating from the airplane, which could cause rough or irregular control. Such rough or irregular control could lead to the loss of control of the airplane.

Has FAA taken any action to this point? We issued a proposal to amend part 39 of the Federal Aviation Regulations (14 CFR part 39) to include an AD that would apply to certain Socata Model TBM 700 airplanes. This proposal was published in the Federal Register as a notice of proposed rulemaking (NPRM) on February 11, 2002 (67 FR 6207). The NPRM proposed to supersede AD 2001-05-03 with a new AD that would require you to:

—Inspect the flap carriage attaching bolts and screws for damage and replace as necessary;

—Apply Loctite on the attaching bolt and screw threads of inboard, central, and outboard carriages;

—Increase the tightening torques;

—Replace central carriage attaching bolts; and

—Inspect the barrel nut for correct positioning, and corrective action as necessary.

The NPRM also proposed to remove compliance in accordance with the procedures in Socata Mandatory Service Bulletin SB 70-087 57, dated September 2000.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—provide the intent that was proposed in the NPRM for correcting the unsafe condition; and

—do not add any additional burden upon the public than was already proposed in the NPRM.

Cost Impact

How many airplanes does this AD impact? We estimate that this AD affects 75 airplanes in the U.S. registry.

What is the cost impact of this AD on owners/operators of the affected airplanes?

We estimate the following costs to accomplish the modifications:

Labor cost | Parts cost | Total cost per airplane | Total cost on U.S. operators
6 workhours × $60 per hour = $360 | $10 | $360 + $10 = $370 | $370 × 75 = $27.750

The only difference between this AD and AD 2001-05-03 is the addition of the inspection of the flap carriage attachment bolts, screws, and barrel nut. The FAA has determined that the cost of this inspection is minimal and does not increase the cost impact over that already required by AD 2001-05-03.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2001-05-03, Amendment 39-12139 (66 FR 14308, March 12, 2001), and by adding a new AD to read as follows:

2002-09-11 SOCATA—Groupe Aerpspatiale: Amendment 39-12744; Docket No. 2002-CE-01-AD; Supersedes AD 2001-05-03, Amendment 39-12139.

(a) What airplanes are affected by this AD? This AD affects Model TBM 700 airplanes, serial numbers 1 through 164 and 166 through 173, that are certificated in any category.

(b) Who must comply with this AD? Anyone who wishes to operate any of the airplanes identified in paragraph (a) of this AD must comply with this AD.

(c) What problem does this AD address? The actions specified by this AD are intended to prevent the flap attaching bolts/screws from becoming loose and separating from the airplane, which could cause rough or irregular control. Such rough or irregular control could lead to the loss of control of the airplane. 5

(d) What actions must I accomplish to address this problem? To address this problem, you must accomplish the following:

Actions | Compliance | Procedures
(1) Accomplish the following on the flap carriages: (i) Inspect the inboard and carriage attaching bolts and screws for peening and/or distortion, and replace screws and/or bolts, as necessary; (ii) Apply Loctite on the attaching bolt and screw threads of the inboard and the outboard carriages; (iii) Increase tightening torque of associated hardware; (iv) Apply a red paint line on the inboard and outboard carriages and the screw heads; (v) Inspect the central carriage barrel nut for correct positioning, remove, inspect, and replace, as necessary; (vi) Replace the central carriage attaching bolts with new bolts, part number (P/N) Z00.N5109337315 (or FAA-approved equivalent part); (vii) Apply Loctite on the attaching bolt threads of the central carriage; (viii) Increase tightening torque of associated hardware; and (ix) Apply a red paint line on the on the central carriage and on the bolt heads. | Within the next 100 hours time-in-service (TIS) after June 20, 2002 (the effective date of this AD), unless already accomplished. Socata Mandatory Service Bulletin SB 70-087 57 Amendment 1, dated November 2000, includes all procedures required in this AD. If yoy have already accomplished all procedures in the service bulletin, proceed to paragraph (s)(2) of this AD | In accordance with the ACCOMPLISHMENT INSTRUCTIONS in Socata Mandatory Service Bulliten SB 70-087, Amendment 1, dated November 2000, and the applicable maintenance manual.
(2) Inspect the alignment of the red paint line on the inboard, and central carriages to determine if the attaching screws and/or bolts have become loose | At intervals not to exceed 100 hours TIS after compliance with the actions required in paragraph (d)(1) of this AD | In accordance with the ACCOMPLISHMENT INSTRUCTIONS in Socata Mandatory Service Bulletin SB 70-087 57, Amendment 1, dated November 2000, and the applicable maintenance manual.
(3) If any inspection required in paragraph (d)(2) of this AD reveals that the inboard, the outboard, and/or the central carriage attaching screws and/or bolts have become loose, accomplish the following:
(i) Obtain a repair scheme from the manufacturer through the FAA at the address specified in paragraph (f) of this AD;
(ii) Incorporate this repair scheme; and
(iii) Continue to repetitively inspect as required in paragraph (d)(2) of this AD, unless the repair scheme directs AD. differently. | Prior to further flight after the inspection in which the attaching screws and/or bolts are found loose | In accordance with the repair scheme obtained from SOCATA Groupe AEROSPATIALE, Customer Support, Aerodrome Tarbes-Ossun-Lourdes, BP 930—F65009 Tarbes Cedex, France; or the Product Support Manager, SOCATA—Groupe AEROSPATIALE, North Perry Airport, 7501 Pembroke Road, Pembroke Pines, Florida 33023. Obtain this repair scheme through the FAA at the address specified in paragraph (f) of this AD.
(4) Do not install any central carriage attaching bolts that are not P/N Z00.N5109337315 (or FAA-approved equivalent part) | As of April 27, 201 (the effective date of AD 2001-05-03) | Not Applicable.

(e) Can I comply with this AD in any other way? You may use an alternative method of compliance or adjust the compliance time if:

(i) Your alternative method of compliance provides an equivalent level of safety; and

(ii) The Manager, Standards Office, Small Airplane Directorate, approves your alternative. Submit your request through an FAA Principal Maintenance Inspector, who may add comments and then send it to the Manager, Standards Office, Small Airplane Directorate.

(2) Alternative methods of compliance approved in accordance with AD 2001-05-03, which is superseded by this AD, are not approved as alternative methods of compliance with this AD.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) Are any service bulletins incorporated into this AD by reference? Actions required by this AD must be done in accordance with Socata Mandatory Service Bulletin SB 70-087 57, Amendment 1, dated November 2000. The Director of the Federal Register approved this incorporation by reference under 5 U.S.C. 552(a) and 1 CFR part 51. You may get copies from SOCATA Groupe AEROSPATIALE, Customer Support, Aerodrome Tarbes-Ossun-Lourdes, BP 930—F65009 Tarbes Cedex, France; or the Product Support Manager, SOCATA—Groupe AEROSPATIALE, North Perry Airport, 7501 Pembroke Road, Pembroke Pines, Florida 33023. You may view copies at the FAA, Central Region, Office of the Regional Counsel, 901 Locust, Room 506, Kansas City, Missouri, or at the Office of the Federal Register, 800 North Capitol Street, NW, suite 700, Washington, DC.

(i) Does this AD action affect any existing AD actions? This amendment supersedes AD 2001-05-03, Amendment 39-12139.

Note 2: The subject of this AD is addressed in French AD No. 2000-409(A) R1, dated September 29, 2001.

(j) When does this amendment become effective? This amendment becomes effective on June 20, 2002.

Issued in Kansas City, Missouri, on April 29, 2002.
Michael Gallagher,
Manager, Small Airplane Directorate, Aircraft Certification Service.

[FR Doc. 02-11215 Filed 5-6-02; 8:45 am]

BILLING CODE 4910-13-U